DEPARTMENT OF HOUSING AND URBAN DEVELOPMENT

[Docket No. FR-5448-N-01]

Tax Credit Assistance Program—Reallocation of Funds

AGENCY: Office of the Assistant Secretary for Community Planning and Development, HUD.

ACTION: Notice.

SUMMARY: Through this notice, HUD announces the availability on its Web site of the application information, submission deadlines, funding criteria, and other requirements for the Reallocation of Tax Credit Assistance Program (TCAP) funds. This funding opportunity makes approximately $16 million available to assist housing projects that received Low Income Housing Tax Credit (LIHTC) awards between October 1, 2006, and September 30, 2009. These TCAP funds may be used for capital investment in eligible LIHTC projects in accordance with CPD Notice 09-03. The information regarding the application process, funding criteria and eligibility requirements can be found at the HUD Web site at http://portal.hud.gov/portal/page/portal/HUD/recovery/programs/tax.

FOR FURTHER INFORMATION CONTACT: Marcia Sigal, Director, Program Policy Division, Office of Affordable Housing Programs, Department of Housing and Urban Development, 451 7th Street, SW., Washington, DC 20410, telephone (202) 708-2684 (this is not a toll free number). Persons with speech or hearing impairments may access this telephone number via TTY by calling the toll-free Federal Information Relay Service during working hours at 800- 877-8339.

Dated: November 16, 2010.
Clifford Taffet,
General Deputy Assistant Secretary for Community Planning and Development (Acting).

[FR Doc. 2010-30498 Filed 12-3-10; 8:45 am]

BILLING CODE 4210-67-P